DEPARTMENT OF AGRICULTURE

Agricultural Marketing Service

7 CFR Part 983

[Docket No. FV96-983-1PR; AO F&V-983-1]

Pistachios Grown in California, Arizona, Nevada, New Mexico, and Utah; Termination of Proceeding on Proposed Marketing Agreement and Order

AGENCY: Agricultural Marketing Service, USDA.

ACTION: Termination of proceeding.

SUMMARY: This action terminates the proceeding to establish a marketing agreement and order for pistachios grown in California, Arizona, Nevada, New Mexico, and Utah. At the request of the pistachio industry, the Agricultural Marketing Service held a public hearing in August 1996 to receive evidence on a program proposed by the California Pistachio Commission and the Western Pistachio Association. The program would have authorized quality and container requirements and mandatory inspection. Subsequent to the hearing, the proponent industry groups requested that the proceeding be terminated. Given the lack of support for the proposal currently under consideration, the Department is terminating the proceeding.

DATES: The action is terminated as of September 6, 2000.

FOR FURTHER INFORMATION CONTACT: Kurt Kimmel, California Marketing Field Office, Marketing Order Administration Branch, Fruit and Vegetable Programs, AMS, USDA, 2202 Monterey Street, suite 102B, Fresno, California 93721; telephone: (559) 487-5901, Fax: (559) 487-5906; or Anne Dec, Marketing Order Administration Branch, Fruit and Vegetable Programs, AMS, USDA, room 2525-S, P.O. Box 96456, Washington, DC 20090-6456; telephone: (202) 720-2491, Fax: (202) 720-5698.

Small businesses may request information on this action by contacting Jay Guerber, Marketing Order Administration Branch, Fruit and Vegetable Programs, AMS, USDA, P.O. Box 96456, room 2525-S, Washington, DC 20090-6456; telephone: (202) 720-2491, Fax: (202)720-5698, or E-mail: Jay.Guerber@usda.gov.

SUPPLEMENTARY INFORMATION: Prior document in this proceeding: Notice of hearing issued on July 26, 1996, and published in the Federal Register on July 31, 1996 (61 FR 39911).

This action is governed by the provisions of sections 556 and 557 of title 5 of the United States Code and therefore is not subject to the requirements of Executive Order 12866.

This action is issued pursuant to the provisions of the Agricultural Marketing Agreement Act of 1937, as amended (7 U.S.C. 601-674), and the applicable rules of practice and procedure governing the formulation of marketing agreements and orders (7 CFR part 900).

Preliminary Statement

In January 1996, the California Pistachio Commission (CPC) and the Western Pistachio Association (WPA), representing the U.S. pistachio industry, requested that the Department hold a public hearing to consider a proposed marketing agreement and order for pistachios grown in California, Arizona, Nevada, New Mexico, and Utah. The proposed program would have authorized quality and container requirements and mandatory inspection.

A notice of hearing was published in the Federal Register on July 31, 1996. The hearing was held in Fresno, California, August 20 through 23, 1996. At the conclusion of the hearing, the Administrative Law Judge fixed October 31, 1996, as the date for interested parties to file post-hearing briefs. Three briefs were received, all in opposition to the proposed order.

Based on a review of hearing evidence and post-hearing briefs, on April 9, 1997, the Department announced its plans to reopen the hearing to take additional evidence relating to the economic and marketing conditions that justified the need for a pistachio marketing order as well as the economic impact of the proposed order on the industry. We asked for public input on scheduling the hearing by May 9, 1997. On July 22, 1997, the Department extended to September 1, 1997, the period during which it would accept public comment on reopening the hearing. On October 3, 1997, we further extended the comment period until January 31, 1998. No comments were received during the period provided.

On June 22, 2000, the CPC and WPA requested that the proceeding be terminated.

Termination of Proceeding

In view of the above, the proceeding is hereby terminated.

List of Subjects in 7 CFR Part 983

Marketing agreements, Pistachios, Reporting and recordkeeping requirements.

Authority: 7 U.S.C. 601-674.

Dated: August 28, 2000.
Kathleen A. Merrigan,
Administrator, Agricultural Marketing Service.

[FR Doc. 00-22577 Filed 9-1-00; 8:45 am]

BILLING CODE 3410-02-P